DEPARTMENT OF HEALTH AND HUMAN SERVICES

Centers for Disease Control and Prevention

[60 Day-03-83]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Pilot Study to Evaluate Two Alternative Methods to Characterize Potential Exposures of Miners to Hazardous Chemicals—New—National Institute for Occupational Safety and Health (NIOSH), Centers for Disease Control and Prevention (CDC).

NIOSH is planning to conduct a pilot study to assess the feasibility of using alternate, existing information sources to update estimates of potential exposures of miners to hazardous chemicals. Estimates of potential exposures of miners to hazardous chemicals are currently based on the National Occupational Health Survey of Miners (NOHSM, DHHS (NIOSH) Publication No. 96-136), which was conducted from 1984 through 1989. The mining industry has experienced many changes in the time since NOHSM was performed; consequently, the NOHSM data may no longer be representative of the current potential exposures of the mining industry labor force to hazardous chemicals.

The proposed pilot study will request 10 mining establishments from each of the five major mining commodities (i.e., coal, metal, nonmetal, stone and sand and gravel) selected by probability sampling, to submit a copy of the list of hazardous chemicals maintained pursuant to Mine Safety and Health Administration's (MSHA) Hazard Communication rule (30 CFR 47). For the selected mining establishments in the coal and metal commodities, publicly available U.S. Environmental Protection Agency (EPA) Toxic Release Inventory (TRI) data will also be assembled and examined for value as part of the pilot project.

The objective of the pilot study will be to determine if hazard communication lists of hazardous chemicals, and/or EPA TRI data can be utilized to estimate potential exposure of miners to hazardous chemicals.

The Pilot Study will gather data on recruitment and participation, overall response rates and usefulness of the collected data. Any information linking survey responses to individual mining enterprises will be kept confidential. Only aggregate data will be used for all reports generated from the Pilot Study. There will be no cost to respondents.

Respondents | Number of respondents | Number of responses per respondent | Average burden per response (in hrs.) | Total burden (in hrs.)
Coal Mining Commodity | 10 | 1 | 15/60 | 2.5
Metal Mining Commodity | 10 | 1 | 15/60 | 2.5
Nonmetal Mining Commodity | 10 | 1 | 15/60 | 2.5
Stone Mining Commodity | 10 | 1 | 15/60 | 2.5
Sand and Gravel Mining Commodity | 10 | 1 | 15/60 | 2.5
Total |  |  |  | 12.5

Dated: June 23, 2003.
Thomas A. Bartenfeld,
Acting Associate Director for Policy, Planning and Evaluation, Centers for Disease Control and Prevention.

[FR Doc. 03-16281 Filed 6-26-03; 8:45 am]

BILLING CODE 4163-18-P